DEPARTMENT OF HEALTH AND HUMAN SERVICES

Administration for Children and Families

Proposed Information Collection Activity; Replication of Recovery and Reunification Interventions for Families-Impact Study (New Collection)

AGENCY: Office of Planning, Research, and Evaluation, Administration for Children and Families, Department of Health and Human Services.

ACTION: Request for public comments.

SUMMARY: The Administration for Children and Families (ACF) is proposing a data collection activity as part of the Replication of Recovery and Reunification Interventions for Families-Impact Study (R3-Impact). The R3-Impact Study aims to satisfy the legislative requirements called for by the 2018 SUPPORT for Patients and Communities Act by replicating and testing the efficacy of two recovery coaching interventions for families engaged in the child welfare system due to parental substance use disorders.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The R3-Impact study will use experimental and quasi-experimental designs to test the effectiveness of the recovery coaching interventions on key child welfare and parent well-being outcomes. The implementation study will document the fidelity of program implementation, describe the services participants receive under each approach, and provide operational lessons gathered directly from practitioners. These goals represent ACF's interest in understanding whether recovery coaching interventions yield successful parental recovery and child welfare outcomes, and if so, whether the potential exists to scale the interventions for the benefit of more affected families. The proposed information collection activity consists of (1) Baseline data collection: collection of baseline demographic and parent well-being data from study participants; (2) Contact form: short form sent to study participants quarterly for one year after study enrollment to keep contact information current and generally maintain the participant's connection to the study; (3) Validation interviews: short interviews with a subset of study participants to monitor the quality of data collection interviews and to validate that the interviewer spoke with the participant; (4) Implementation study interviews: using topic guides, collect information from program supervisors and frontline staff, community providers, child welfare staff, and parents enrolled in the programs to assess the fidelity of implementation, document program services, and gather operational lessons; and (5) Parent Interview Information Form: demographic information to support analysis of parent perspectives by personal characteristics and history. Future information collection requests will be submitted to collect follow-up data.

Respondents: Parents enrolled in the R3-Impact Study, and program and agency staff involved in implementing the R3 interventions.

Annual Burden Estimates
Instrument | Number of respondents (total over request period) | Number of responses per respondent (total over request period) | Avg. burden per response (in hours) | Total burden (in hours) | Annual burden (in hours)
Baseline Parent Survey | 2,750 | 1 | .75 | 2063 | 688
Contact Form | 1843 | 4 | .17 | 1,253 | 418
Topic Guide—Child Welfare Lead Staff | 60 | 1 | 1 | 60 | 20
Topic Guide—Child Welfare Frontline Staff | 60 | 1 | 1 | 60 | 20
Topic Guide—Partners | 120 | 1 | 1 | 120 | 40
Topic Guide—Program Managers | 60 | 1 | 1.5 | 90 | 30
Topic Guide—Mentor Supervisors | 60 | 1 | 1.5 | 90 | 30
Topic Guide—Parent/Family Mentors | 60 | 1 | 1.5 | 90 | 30
Topic Guide—Parents | 30 | 1 | 1 | 30 | 10
Parent Interview Information Form | 30 | 1 | .1 | 3 | 1
Validation Interviews | 275 | 1 | .08 | 22 | 7

Estimated Total Annual Burden Hours: 1,294.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The Substance Use-Disorder Prevention that Promotes Opioid Recovery and Treatment for Patients and Communities Act. (SUPPORT for Patients and Communities Act; Public Law 115-271)

Mary B. Jones,
ACF/OPRE Certifying Officer.

[FR Doc. 2023-11989 Filed 6-5-23; 8:45 am]

BILLING CODE 4184-01-P